DEPARTMENT OF TRANSPORTATION

Federal Aviation Administration

TSO-C163, VDL Mode 3 Communications Equipment Operating Within the Frequency Range 117.975 to 137.000 Megahertz (MHz)

AGENCY: Federal Aviation Administration, DOT.

ACTION: Notice of availability and requests for public comment.

SUMMARY: This notice announces the availability of, and request comments, on a proposed Technical Standard order (TSO) for VDL Mode 3 Communications Equipment Operating within the Frequency Range 117.975 to 137.000 Megahertz (MHz). The proposed TSO tells manufacturers seeking TSO authorization or letter of design approval what minimum performance standard (MPS) their VDL Mode 3 Communications Equipment Operating within the Frequency Range 117.975 to 137.000 MHz must first meet to obtain approval and identification with the applicable TSO markings. Note that this proposed VDL Mode 3 TSO is drafted to recognize RTCA document (RTCA/DO)—271A, Minimum Operational Performance Standards (MOPS) for Aircraft VDL Mode 3 Transceiver Operating in the Frequency Range 117.975 to 137.000 Megahertz (MHz).

DATES: Comments must identify the TSO and arrived by February 5, 2004.

ADDRESSES: Send all comments on the proposed TSO to: Federal Aviation Administration, Aircraft Certification Service, Aircraft Engineering Division, Avionic Systems Branch, AIR-130, Room 815, 800 Independence Avenue, SW., Washington, DC 20591. ATTN: Mr. Gregory Frye, AIR-130. Or, you may deliver comments to: Federal Aviation Administration, Room 815, 800 Independence Avenue, SW., Washington, DC 20591.

FOR FURTHER INFORMATION CONTACT: Mr. Gregory Frye, Federal Aviation Administration, Aircraft Certification Service, Aircraft Engineering Division, Avionic Systems Branch, AIR-130, Room 815, 800 Independence Avenue, SW., Washington, DC 20591, Telephone (202) 385-4649, FAX (202) 385-4651. E-mail gregory.e.frye@FAA.GOV.

SUPPLEMENTARY INFORMATION:

Comments Invited

You may comment on the proposed TSO listed in this notice by sending such written data, views, or arguments to the above listed address. You may also examine comments received on the proposed TSO, before and after the comment closing date, in Room 815, FAA Headquarters Building, 800 Independence Avenue, SW., Washington, DC 20591, weekdays except Federal holidays, between 8:30 a.m. and 4:30 p.m. The Director of the Aircraft Certification Service will consider all communications received by the closing date before issuing the final TSO.

Background

The steady growth of aviation has brought about the corresponding growth in air/ground communications requirements. Further, the growing diversity of air traffic has resulted in an increasing complex air traffic control environment, which adds to the demand for spectrum efficiency, necessitates the impending relief granted with the usage of this VDL Mode 3 communication enhancement.

The current Very High Frequency (VHF) air/ground communications system lacks the channel capacity for future air traffic integrated voice and data communications demands. Deficiencies in the existing communication system includes:

• Lack of additional channels for voice services.

• Lack of integrated data link capacity.

• Insufficient ability to significantly improve NAS safety and efficiency.

• Increase radio frequency interference susceptibility.

• Outdated equipment and infrastructure.

• System maintenance concerns.

The VDL Mode 3 system is designed to address deficiencies in the current air traffic management system as well as utilizing technological advances in communications equipment design in order to meet future air traffic system voice and data demands.

How To Get Copies

You may get a copy of the proposed TSO from the Internet at http://av-info.faa.gov/tso/Tsoro/Proposed.htm, or by contacting the person listed in the section titled FOR FURTHER INFORMATION CONTACT. You may inspect the RTCA document at the FAA office listed under ADDRESSES. Because RTCA documents are copyrighted and may not be reproduced without the written consent of RTCA, Inc., you may purchase a copy of RTCA/DO-271A from: RTCA Inc., 1828 L Street, NW., Suite 807, Washington, DC 20036.

Issued in Washington, DC, on December 19, 2003.
Susan J.M. Cabler,
Assistant Manager, Aircraft Engineering Division, Aircraft Certification Service.

[FR Doc. 03-32088 Filed 12-30-03; 8:45 am]

BILLING CODE 4910-13-M